DEPARTMENT OF AGRICULTURE

Office of the Secretary

7 CFR Part 3

Debt Collection

AGENCY: Office of the Secretary, USDA.

ACTION: Advance notice of proposed rulemaking.

SUMMARY: This document gives notice that the Department of Agriculture (USDA) plans to amend and make changes to its existing debt collection procedures at 7 CFR part 3 to reflect changes made by the revised Federal Claims Collection Standards (FCCS) published by the Department of Treasury (Treasury) and the Department of Justice (DOJ) on November 22, 2000, in the Federal Register. The Treasury and DOJ revised the FCCS to make clear and reduce in scope Federal debt collection standards and incorporate changes mandated by the Debt Collection Improvement Act of 1996 (DCIA) and the General Accounting Office Act of 1996 (GAOA).

DATES: Submit comments on or before December 7, 2001.

ADDRESSES: Comments should be sent to Dale Theurer, Credit, Travel and Accounting Policy Division, Office of the Chief Financial Officer, Department of Agriculture, Room 4628 South, 1400 Independence Avenue, SW., Washington, DC 20250.

FOR FURTHER INFORMATION CONTACT: Joyce Baumgartner on 202-720-4958, FAX 202-690-1529, email to jbaumgartner@cfo.usda.gov.

SUPPLEMENTARY INFORMATION: The Debt Collection Act of 1982 (DCA), Pub. L. No. 97-365, was implemented on a government-wide basis by the Federal Claims Collection Standards (FCCS), set forth at 4 CFR part 101 et seq issued by DOJ and the General Accounting Office on March 9, 1984. See 49 FR 8889 (1984). USDA implemented the FCCS in 7 CFR part 3. As mandated by the DCIA, Pub. L. No. 104-134, on November 22, 2000, the Treasury and DOJ jointly promulgated the revised FCCS which appears in the Code of Federal Regulations at 31 CFR parts 901-904 to reflect the legislative changes to Federal debt collection procedures enacted under the DCIA. See 65 FR 70390 (2000). The revised FCCS supersedes the current FCCS codified at 4 CFR parts 101-105, and removes the Comptroller General as a promulgator of the FCCS in accordance with the GAOA, Pub. L. No. 104-316. USDA has reviewed the administrative offset provisions of the revised FCCS and finds the protections and procedures provided to debtors by the current USDA debt collection procedures for administrative offset at 7 CFR part 3, subpart B consistent with those provided by the newly revised FCCS.

At a later date, USDA will move to amend 7 CFR part 3 to reflect the promulgation of the revised FCCS and to incorporate other changes that are USDA specific on collecting debt by administrative offset. USDA requests comments from the public regarding what changes to 7 CFR part 3 should be included as part of any future notice of proposed rules.

Done at Washington, DC, this 29th day of October 2001.
Ann M. Veneman,
Secretary.

[FR Doc. 01-27887 Filed 11-6-01; 8:45 am]

BILLING CODE 3410-01-P